DEPARTMENT OF THE INTERIOR

National Park Service

[N6738; NPS-WASO-NAGPRA-NPS0041548; PPWOCRADN0-PCU00RP14.R50000]

Notice of Inventory Completion: Pennsylvania Western University-California, California, PA

AGENCY: National Park Service, Interior.

ACTION: Notice.

SUMMARY: In accordance with the Native American Graves Protection and Repatriation Act (NAGPRA), Pennsylvania Western University-California (PennWest-Cal) has completed an inventory of human remains and associated funerary objects and has determined that there is a cultural affiliation between the human remains and associated funerary objects and Indian Tribes or Native Hawaiian organizations in this notice.

DATES: Repatriation of the human remains and associated funerary objects in this notice may occur on or after January 20, 2026.

ADDRESSES: Send written requests for repatriation of the human remains and associated funerary objects in this notice to Cassandra Kuba, Department of Biology, Earth and Environmental Sciences, Pennsylvania Western University, 250 University Avenue, Box #45, California, PA 15419, email kuba@pennwest.edu.

SUPPLEMENTARY INFORMATION: This notice is published as part of the National Park Service's administrative responsibilities under NAGPRA. The determinations in this notice are the sole responsibility of PennWest-Cal, and additional information on the determinations in this notice, including the results of consultation, can be found in its inventory or related records. The National Park Service is not responsible for the determinations in this notice.

Abstract of Information Available

Human remains representing at least two individuals were removed from a pre-contact site on a slope north of Webster, overlooking the Monongahela River in southwestern Westmoreland County, Pennsylvania, in the early 1970s and released to the university at a later date. The 50 associated funerary objects are beads (bone and ceramic), removed from a mortuary feature associated with one of the individuals.

Cultural Affiliation

Based on the information available and the results of consultation, cultural affiliation is reasonably identified by the geographical location and associated funerary objects described in this notice.

Determinations

PennWest-Cal has determined that:

• The human remains described in this notice represent the physical remains of two individuals of Native American ancestry.

• The 50 objects described in this notice are reasonably believed to have been placed intentionally with or near individual human remains at the time of death or later as part of the death rite or ceremony.

• There is a connection between the human remains and associated funerary objects described in this notice and the Delaware Nation, Oklahoma; Delaware Tribe of Indians; Seneca Nation of Indians; Seneca-Cayuga Nation; The Osage Nation; and the Tonawanda Band of Seneca.

Requests for Repatriation

Written requests for repatriation of the human remains and associated funerary objects in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains and associated funerary objects described in this notice to a requestor may occur on or after January 20, 2026. If competing requests for repatriation are received, PennWest-Cal must determine the most appropriate requestor prior to repatriation. Requests for joint repatriation of the human remains and associated funerary objects are considered a single request and not competing requests. The PennWest-Cal is responsible for sending a copy of this notice to the Indian Tribes and Native Hawaiian organizations identified in this notice.

Authority: Native American Graves Protection and Repatriation Act, 25 U.S.C. 3003, and the implementing regulations, 43 CFR 10.10.

Dated: December 8, 2025.
Melanie O'Brien,
Manager, National NAGPRA Program.

[FR Doc. 2025-23351 Filed 12-18-25; 8:45 am]

BILLING CODE 4312-52-P